DEPARTMENT OF THE INTERIOR

Bureau of Land Management

[LLNV952000 L14200000.BJ0000 241A; 13-08807; MO# 4500047847; TAS: 14X1109]

Filing of Plats of Survey; NV

AGENCY: Bureau of Land Management, Interior.

ACTION: Notice.

SUMMARY: The purpose of this notice is to inform the public and interested State and local government officials of the filing of Plats of Survey in Nevada.

DATES: Effective Dates: Filing is effective at 10:00 a.m. on the dates indicated below.

FOR FURTHER INFORMATION CONTACT: David D. Morlan, Chief, Branch of Geographic Sciences, Bureau of Land Management, Nevada State Office, 1340 Financial Blvd., Reno, NV 89502-7147, phone: 775-861-6490. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: 1. The Supplemental Plats of the following described lands were officially filed at the Nevada State Office, Reno, Nevada on October 26, 2012:

A supplemental plat, in 1 sheet, showing amended lottings of section 6, Township 21 South, Range 63 East, Mount Diablo Meridian, Nevada under Group 917 was accepted October 24, 2012. This supplemental plat was prepared to meet certain administrative needs of the Bureau of Land Management.

A supplemental plat, in 1 sheet, showing amended lottings of section 36, Township 20 South, Range 62 East, Mount Diablo Meridian, Nevada under Group 917 was accepted October 24, 2012. This supplemental plat was prepared to meet certain administrative needs of the Bureau of Land Management.

A supplemental plat, in 1 sheet, showing amended lottings of section 1, Township 21 South, Range 62 East, Mount Diablo Meridian, Nevada under Group 917 was accepted October 24, 2012. This supplemental plat was prepared to meet certain administrative needs of the Bureau of Land Management.

A supplemental plat, in 1 sheet, showing amended lottings of section 12, Township 21 South, Range 62 East, Mount Diablo Meridian, Nevada under Group 917 was accepted October 24, 2012. This supplemental plat was prepared to meet certain administrative needs of the Bureau of Land Management.

2. The Supplemental Plat of the following described lands was officially filed at the Nevada State Office, Reno, Nevada on December 3, 2012:

The supplemental plat, in 1 sheet, showing the subdivision of former lots 23 and 24, section 1, Township 21 South, Range 62 East, of the Mount Diablo Meridian, Nevada, under Group No. 917, was accepted November 27, 2012. This supplemental plat was prepared to meet certain administrative needs of the Bureau of Land Management.

3. The Plat of Survey of the following described lands was officially filed at the Nevada State Office, Reno, Nevada on December 4, 2012:

A plat, in 3 sheets, representing the dependent resurvey of a portion of the subdivisional lines, and the subdivision of certain sections, Township 18 South, Range 51 East, of the Mount Diablo Meridian, Nevada, under Group No. 833, was accepted November 30, 2012. This survey was executed to meet certain administrative needs of the U.S. Fish and Wildlife Service.

A plat, in 3 sheets, representing the dependent resurvey of a portion of the east boundary and a portion of the subdivisional lines, and the subdivision of certain sections, Township 18 South, Range 50 East, of the Mount Diablo Meridian, Nevada, under Group No. 834, was accepted November 30, 2012. This survey was executed to meet certain administrative needs of the U.S. Fish and Wildlife Service.

The surveys listed above are now the basic record for describing the lands for all authorized purposes. These surveys have been placed in the open files in the Bureau of Land Management, Nevada State Office and are available to the public as a matter of information. Copies of the surveys and related field notes may be furnished to the public upon payment of the appropriate fees.

Dated: January 28, 2013.
David D. Morlan,
Chief Cadastral Surveyor, Nevada.

[FR Doc. 2013-03288 Filed 2-12-13; 8:45 am]

BILLING CODE 4310-HC-P